OFFICE OF THE UNITED STATES TRADE REPRESENTATIVE

[Docket No. WTO/DS-322]

WTO Dispute Settlement Proceeding Regarding Measures Relating to Zeroing and Sunset Reviews Involving Certain Products From Japan

AGENCY: Office of the United States Trade Representative.

ACTION: Notice; request for comments.

SUMMARY: The Office of the United States Trade Representative (“USTR”) is providing notice that, at the request of the Government of Japan, a dispute settlement panel under the Marrakesh Agreement Establishing the World Trade Organization (“WTO Agreement”) is reviewing various measures relating to antidumping duty orders on certain products from Japan. Japan alleges that determinations made by U.S. authorities concerning this product, and certain related matters, are inconsistent with Articles 1, 2, 3, 5, 9, 11, and 18 of the Agreement on Implementation of Article VI of the General Agreements on Tariffs and Trade 1994 (“AD Agreement”), Article VI of the General Agreement on Tariffs and Trade 1994 (“GATT 1994”), and Article XVI:4 of the WTO Agreement. USTR invites written comments from the public concerning the issues raised in this dispute.

DATES: Although USTR will accept any comments received during the course of the dispute settlement proceedings, comments should be submitted on or before June 27, 2005, to be assured of timely consideration by USTR.

ADDRESSES: Comments should be submitted (i) electronically, to FR0520@ustr.gov, with “Japan Zeroing & Sunset” in the subject line, or (ii) by fax, to Sandy McKinzy at (202) 395-3640, with a confirmation copy sent electronically to the address above, in accordance with the requirements for submission set out below.

FOR FURTHER INFORMATION CONTACT: Elizabeth Baltzan, Associate General Counsel, Office of the United States Trade Representative, 600 17th Street, NW., Washington, DC 20508, (202) 395-3582.

SUPPLEMENTARY INFORMATION: Section 127(b) of the Uruguay Round Agreements Act (“URAA”) (19 U.S.C. 3537(b)(1)) requires that notice and opportunity for comment be provided after the United States submits or receives a request for the establishment of a WTO dispute settlement panel. Consistent with this obligation, USTR is providing notice that a dispute settlement panel has been established pursuant to the WTO Dispute Settlement Understanding (“DSU”). The panel will hold its meetings in Geneva, Switzerland.

Major Issues Raised by Japan

With respect to the measures at issue, Japan's panel request refers to the following:

• The imposition of anti-dumping duties on Certain Cut-to-Length Carbon Quality Steel Plate products from Japan (64 FR 73215, 13 December 1999);

• The imposition of anti-dumping duties on Tapered Roller Bearings, Four Inches or Less in Outside Diameter, and Components Thereof, from Japan (66 FR 15078, 15 March 2001);

• The imposition of anti-dumping duties on Tapered Roller Bearings and Parts Thereof, Finished and Unfinished, from Japan (65 FR 11767, 6 March 2000);

• The imposition of anti-dumping duties on Tapered Roller Bearings and Parts Thereof, Finished and Unfinished, from Japan (66 FR 15078, 15 March 2001);

• The imposition of anti-dumping duties on Ball Bearings and Parts Thereof from Japan (65 FR 49219, 11 August 2000);

• The imposition of anti-dumping duties on Cylindrical Roller Bearings and Parts Thereof from Japan (65 FR 49219, 11 August 2000);

• The imposition of anti-dumping duties on Spherical Plain Bearings and Parts Thereof from Japan (65 FR 49219, 11 August 2000);

• The imposition of anti-dumping duties on Ball Bearings and Parts Thereof from Japan (66 FR 36551, 12 July 2001);

• The imposition of anti-dumping duties on Cylindrical Roller Bearings and Parts Thereof from Japan (66 FR 36551, 12 July 2001);

• The imposition of anti-dumping duties on Spherical Plain Bearings and Parts Thereof from Japan (66 FR 36551, 12 July 2001);

• The imposition of anti-dumping duties on Ball Bearings and Parts Thereof from Japan (67 FR 55780, 30 August 2002, as amended by 67 FR 63608, 15 October 2002);

• The imposition of anti-dumping duties on Ball Bearings and Parts Thereof from Japan (69 FR 55574, 15 September 2004);

• The Final Results of the USDOC in the Expedited Sunset Review of Antifriction Bearings from Japan (64 FR 60275, 4 November 1999), and the Determination of the USITC in Certain Bearings from China, France, Germany, Hungary, Italy, Japan, Romania, Singapore, Sweden, and the United Kingdom, Investigations Nos. AA-1921-143, 731-TA-341, 731-TA-343-345, 731-TA-391-397, and 731-TA-399 (Review);

• Final Results of the USDOC in the Full Sunset Review of Corrosion-Resistant Carbon Steel Flat Products from Japan (65 FR 47380, 2 August 2000), and the Determination of the USITC in Certain Carbon Steel Products from Australia, Belgium, Brazil, Canada, Finland, France, Germany, Japan, Korea, Mexico, Netherlands, Poland, Romania, Spain, Sweden, Taiwan, and United Kingdom, Investigations Nos. AA-1921-197, 701-TA-231, 319-320, 322, 325-328, 340, 342, and 348-350, and 731-TA-573-576, 578, 582-587, 604, 607-608, 612, and 614-618 (Review).

• The Tariff Act of 1930, as amended, in particular, sections 731, 751, 752, 771(7), 771(35)(A), 771(35)(B) and 777A(d);

• The Statement of Administrative Action that accompanied the Uruguay Round Agreements Act, H.R. Doc. No. 103-316, vol. 1 (1994);

• The implementing regulations of the USDOC, 19 CFR section 351;

• The USDOC Import Administration's Antidumping Manual (1997 edition), including the AD Margin Calculation computer program(s) to which it refers.

With respect to the claims of WTO-inconsistency, Japan's panel request refers to the following:

• In original investigations, periodic reviews, new shipper reviews, sunset reviews and changed circumstances reviews where the redetermination of margins of dumping occurs, USDOC artificially inflates the dumping margins by “zeroing”;

• In injury investigations, USITC determinations based on “zeroing” are WTO-inconsistent;

• In sunset reviews, USDOC and USITC determinations based on “zeroing” are WTO-inconsistent;

• In changed circumstances reviews, determinations based on “zeroing” are WTO-inconsistent.

Requirements for Submissions

Interested persons are invited to submit written comments concerning the issues raised in this dispute. Persons submitting comments may either send one copy by fax to Sandy McKinzy at (202) 395-3640, or transmit a copy electronically to FR0520@ustr.gov, with “Japan Sunset & Zeroing” in the subject line. For documents sent by fax, USTR requests that the submitter provide a confirmation copy electronically, to the electronic mail address listed above. USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

Comments must be in English. A person requesting that information contained in a comment submitted by that person be treated as confidential business information must certify that such information is business confidential and would not customarily be released to the public by the submitter. Confidential business information must be clearly designated as such and the submission must be marked “BUSINESS CONFIDENTIAL” at the top and bottom of the cover page and each succeeding page of the submission.

Information or advice contained in a comment submitted, other than business confidential information, may be determined by USTR to be confidential in accordance with section 135(g)(2) of the Trade Act of 1974 (19 U.S.C. 2155(g)(2)). If the submitting person believes that information or advice may qualify as such, the submitting person—

(1) Must clearly so designate the information or advice;

(2) Must clearly mark the material as “SUBMITTED IN CONFIDENCE” at the top and bottom of each page of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket No. WT/DS-322, Japan Sunset & Zeroing Dispute) may be made by calling the USTR Reading Room at (202) 395-6186. The USTR Reading Room is open to the public from 9:30 a.m. to 12 noon and 1 p.m. to 4 p.m., Monday through Friday.

Daniel E. Brinza,
Assistant United States Trade Representative for Monitoring and Enforcement.

[FR Doc. 05-11372 Filed 6-7-05; 8:45 am]

BILLING CODE 3110-W5-P